FEDERAL DEPOSIT INSURANCE CORPORATION

Agency Information Collection Activities: Submission for OMB Review; Comment Request

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collections: Application for Consent to Exercise Trust Powers (3064-0025); Asset Securitization (3064-0137); and Insurance Sales Consumer Protections (3064-0140). These collections of information are described below.

DATES: Comments must be submitted on or before June 29, 2007.

ADDRESSES: Interested parties are invited to submit written comments by any of the following methods. All comments should refer to the name of the collection:

• http://www.FDIC.gov/regulations/laws/federal/notices.html.

• E-mail: comments@fdic.gov. Include the name of the collection in the subject line of the message.

• Mail: Steve Hanft (202-898-3907), Clearance Officer, Federal Deposit Insurance Corporation, 550 17th Street, NW., Washington, DC 20429.

• Hand Delivery: Comments may be hand-delivered to the guard station at the rear of the 550 17th Street Building (located on F Street), on business days between 7 a.m. and 5 p.m.

A copy of the comments may also be submitted to the OMB Desk Officer for the FDIC, Office of Information and Regulatory Affairs, Office of Management and Budget, New Executive Office Building, Washington, DC 20503.

FOR FURTHER INFORMATION CONTACT: Steve Hanft (address above).

SUPPLEMENTARY INFORMATION: 1. Title: Application for Consent to Exercise Trust Powers.

OMB Number: 3064-0025.

Form Number: FDIC 6200/09.

Frequency of Response: On occasion.

Affected Public: Insured state nonmember banks wishing to exercise trust powers.

Estimated Number of Respondents: 18.

Estimated Time per Response for Eligible Depository Institutions: 8 hours.

Estimated Time per Response for Institutions that do not Qualify as Eligible Institutions: 24 hours.

Total Annual Burden: 208 hours.

General Description of Collection: FDIC regulations (12 CFR 333.2) prohibit any insured state nonmember bank from changing the general character of its business without the prior written consent of the FDIC. The exercise of trust powers by a bank is usually considered to be a change in the general character of a bank's business if the bank did not exercise those powers previously. Therefore, unless a bank is currently exercising trust powers, it must file a formal application to obtain the FDIC's written consent to exercise trust powers. State banking authorities, not the FDIC, grant trust powers to their banks. The FDIC merely consents to the exercise of such powers. Applicants use form FDIC 6200/09 to obtain FDIC's consent.

2. Title: Interagency Guidance on Asset Securitization Activities.

OMB Number: 3064-0137.

Form Number: None.

Frequency of Response: On occasion.

Affected Public: Insured state nonmember banks involved in asset securitization activities.

Estimated Number of Responses: 20.

Estimated Time per Response: 7.45 hours.

Total Annual Burden: 149 hours.

General Description of Collection: This collection applies to institutions engaged in asset securitization and consists in recordkeeping requirements associated with developing or upgrading a written asset securitization policy, documenting fair value of retained interests, and a management information system to monitor securitization activities. Bank managements use this information as the basis for the safe and sound operation of their asset securitization activities and to ensure that they minimize operational risk in these activities. The FDIC uses the information to evaluate the quality of an institution's risk management practices, and to assist institutions without proper internal supervision of their asset securitization activities to implement corrective action to conduct these activities in a safe and sound manner.

3. Title: Consumer Protections for Depository Institution Sales of Insurance.

OMB Number: 3064-0140.

Form Number: None.

Frequency of Response: On occasion.

Affected Public: Insured state nonmember banks that sell insurance products; persons who sell insurance products in or on behalf of insured state nonmember banks.

Estimated Number of Respondents: 3,740.

Estimated Time per Response: 5 hours.

Total Annual Burden: 18,700 hours.

General Description of Collection: Respondents must prepare and provide certain disclosures to consumers (e.g., that insurance products and annuities are not FDIC-insured) and obtain consumer acknowledgments, at two different times: (1) before the completion of the initial sale of an insurance product or annuity to a consumer; and (2) at the time of application for the extension of credit (if insurance products or annuities are sold, solicited, advertised, or offered in connection with an extension of credit).

Request for Comment

Comments are invited on: (a) Whether these collections of information are necessary for the proper performance of the FDIC's functions, including whether the information has practical utility; (b) the accuracy of the estimates of the burden of the information collections, including the validity of the methodology and assumptions used; (c) ways to enhance the quality, utility, and clarity of the information to be collected; (d) ways to minimize the burden of the information collections on respondents, including through the use of automated collection techniques or other forms of information technology; and (e) estimates of capital or start up costs, and costs of operation, maintenance and purchase of services to provide the information.

At the end of the comment period, the comments and recommendations received will be analyzed to determine the extent to which the collections should be modified prior to submission to OMB for review and approval. Comments submitted in response to this notice also will be summarized or included in the FDIC's requests to OMB for renewal of these collections. All comments will become a matter of public record.

Dated at Washington, DC, this 23rd day of May, 2007.
Federal Deposit Insurance Corporation.
Robert E. Feldman,
Executive Secretary.

[FR Doc. E7-10292 Filed 5-29-07; 8:45 am]

BILLING CODE 6714-01-P